DEPARTMENT OF ENERGY

Federal Energy Regulatory Commission

Notice of Application Tendered for Filing With the Commission, Establishing Procedures for Relicensing and Deadline for Commenting, and Submission of Final Amendments

April 2, 2002.

Take notice that the following hydroelectric application has been filed with the Commission and is available for public inspection.

a. Type of Application: New License

b. Project No.: 637-022

c. Date Filed: March 28, 2002

d. Applicant: Public Utility District No.1 of Chelan County (Chelan PUD)

e. Name of Project: Lake Chelan Hydroelectric Project

f. Location: On the Chelan River in Chelan County, Washington. The project occupies about 465 acres of federal lands administered by the U.S Forest Service and the National Park Service.

g. Filed Pursuant to: Federal Power Act 16 U.S.C. 791(a)-825(r).

h. Applicant Contact: Gregg Carrington, Chelan PUD, 327 North Wenatchee Ave, Wenatchee WA 98801 or P.O. Box 1231, Wenatchee WA 98807-1231, 509-663-8121 or within Washington State toll-free at 888-663-8121, email: gregg@chelanpud.org

i. FERC Contact: Vince Yearick, FERC, 888 First Street, NE, Room 61-11, Washington, DC 20426, (202) 219-3073, email: vince.yearick@ferc.gov

j. Deadline for filing comments: 30 days from the issuance date of this notice

All documents (original and eight copies) should be filed with: Magalie R. Salas, Secretary, Federal Energy Regulatory Commissions, 888 First Street, NE., Washington, DC 20426. Comments may be filed electronically via the Internet in lieu of paper. See, 18 CFR 385.2001(a)(1)(iii) and the instructions on the Commission's web site at http://www.ferc.gov under the “e-Filing” link.

k. The existing Lake Chelan Project consists of: Lake Chelan, a natural glacial lake that was raised 21 feet by construction of the dam to a current normal maximum water surface elevation of 1,100 feet; a 40-foot-high, 490-foot-long, concrete gravity, steel-reinforced dam; a 14-foot-diameter power tunnel, 2.2 miles long; a 45-foot-diameter-by-125-foot-high steel surge tank located along the power tunnel approximately 700 feet upstream of the powerhouse; a 90-foot-long penstock transition that reduces from 14 feet in diameter to 12 feet in diameter and then bifurcates; two 9-foot-diameter, steel-lined, concrete-encased penstocks that reduce to 7.5 feet in diameter at the turbine shutoff valves; a 140-foot-long, 100-foot-wide and 124-foot-high reinforced concrete powerhouse that contains two vertical-shaft, Francis-type turbines with a rated generating capacity of 24,000 kilowatts (kW) each; and a 1,700-foot-long excavated tailrace channel adjacent to the mouth of the Chelan River that discharges into the Columbia River.

l. A copy of the application is available for inspection and reproduction at the Commission's Public Reference and Files Maintenance Branch, located at 888 First Street, NE., Room 2-A, Washington, DC 20426, or by calling (202) 219-1371. Copies of this filing are on file with the Commission and are available for public inspection. This filing may also be viewed on the web at http://www.ferc.gov using the “RIMS” link, select “Docket#” and follow the instructions (call 202-208-2222 for assistance). A copy is also available for inspection and reproduction by contacting the applicant identified in item h above.

m. Relicensing procedures and final amendments: The Commission staff proposes to issue a single Environmental Assessment (EA) rather than issuing a draft and final EA. Staff intends to allow at least 30 days for entities to comment on the EA before final action is taken on the license application. If any person or organization objects to this staff proposed procedure, they should file comments as stipulated in item j above, explaining the basis for their objection. The application will be processed according to the following milestones, some of which may be combined to expedite processing:

Notice of application has been accepted for filing

Notice soliciting final terms and conditions

Notice of the availability of the NEPA document

Order issuing the Commission's decision on the application

Final amendments to the application must be filed with the Commission no later than 45 days from the issuance date of the notice soliciting final terms and conditions.

Magalie R. Salas,
Secretary.

[FR Doc. 02-8403 Filed 4-5-02; 8:45 am]

BILLING CODE 6717-01-P